DEPARTMENT OF COMMERCE

International Trade Administration

[A-602-810, A-351-850, A-403-805]

Silicon Metal From Australia, Brazil, and Norway: Postponement of Preliminary Determinations in the Less-Than-Fair-Value Investigations

AGENCY: Enforcement and Compliance, International Trade Administration, Department of Commerce.

DATES: Applicable: August 1, 2017.

FOR FURTHER INFORMATION CONTACT: Brian Smith at (202) 482-1766 (Australia); Robert James at (202) 482-0649 (Brazil); or Brittany Bauer at (202) 482-3860 (Norway), AD/CVD Operations, Enforcement and Compliance, International Trade Administration, U.S. Department of Commerce, 1401 Constitution Avenue NW., Washington, DC 20230.

SUPPLEMENTARY INFORMATION:

Background

On March 28, 2017, the Department of Commerce (the Department) initiated less-than-fair-value (LTFV) investigations of imports of silicon metal from Australia, Brazil, and Norway.¹ Currently, the preliminary determinations are due no later than August 15, 2017.

¹ See Silicon Metal From Australia, Brazil and Norway: Initiation of Less-Than-Fair-Value Investigations, 82 FR 16352 (April 4, 2017) (Initiation Notice).

Postponement of Preliminary Determinations

Section 733(b)(1)(A) of the Tariff Act of 1930, as amended (the Act), requires the Department to issue the preliminary determination in a LTFV investigation within 140 days after the date on which the Department initiated the investigation. However, section 733(c)(1)(A)(b)(1) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny it.

On July 10, 2017, the petitioner ² submitted a timely request that the Department postpone the preliminary determinations in these LTFV investigations.³ The petitioner stated that it requests postponement to provide adequate time for the Department to issue supplemental questionnaires and receive responses.⁴ The petitioner further stated that these investigations involve complex issues, including further manufacturing, purchases of major inputs from affiliated parties, and the application of the “special rule” under section 772(e) of the Act.⁵

² The petitioner in these investigations is Globe Specialty Metals, Inc.

³ See Letter from the petitioner, “Request for Postponement of Preliminary Determinations,” dated July 10, 2017.

⁴ Id.

⁵ Id.

For the reasons stated above and because there are no compelling reasons to deny the request, the Department, in accordance with section 733(c)(1)(A) of the Act, is postponing the deadline for the preliminary determinations by 50 days (i.e., 190 days after the date on which these investigations were initiated). As a result, the Department will issue its preliminary determinations no later than October 4, 2017. In accordance with section 735(a)(1) of the Act and 19 CFR 351.210(b)(1), the deadline for the final determinations of these investigations will be 75 days after the date of publication of the preliminary determinations, unless postponed at a later date.

This notice is issued and published pursuant to section 733(c)(2) of the Act and 19 CFR 351.205(f)(1).

Dated: July 26, 2017.
Gary Taverman,
Deputy Assistant Secretary for Antidumping and Countervailing Duty Operations, performing the non-exclusive functions and duties of the Assistant Secretary for Enforcement and Compliance.

[FR Doc. 2017-16161 Filed 7-31-17; 8:45 am]

BILLING CODE 3510-DS-P